DEPARTMENT OF LABOR

Standards Administration

Proposed Extension of the Approval of Information Collection Requirements

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposal to extend OMB approval of the information collection: Employment of Apprentices, Messengers and Learners (Including Student-Learners and Student-Workers), Forms WH-205 and WH-209. A copy of the proposed information collection request can be obtained by contacting the office listed below in the ADDRESSES section of this Notice.

DATES: Written comments must be submitted to the office listed in the addresses section below on or before December 8, 2008.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION:

I. Background: Fair Labor Standards Act (FLSA) section 14(a) requires that the Secretary of Labor, to the extent necessary to prevent curtailment of employment opportunities, provide by regulations or orders for the employment of categories of workers who, under special certificates, may be paid less than the generally applicable minimum wage set by section 6(a)(1) of the FLSA. 29 U.S.C. 206(a), 214(a); see also 29 CFR 520.200. This section also authorizes the Secretary to set limitations on such employment as to time, number, proportion, and length of service. 29 U.S.C. 214(a). These workers include apprentices, messengers, and learners (including student-learners and student-workers). 29 CFR 520.200. Regulations found at 29 CFR Part 520 contain the provisions that implement the section 14(a) requirements. Form WH-205 is the application an employer uses to obtain a certificate to employ student-learners at wages lower than the general federal minimum wage. Form WH-209 is the application an employer uses to request a certificate authorizing the employer to employ learners and/or messengers at subminimum wage rates. There is no application form that employers complete to obtain authority from DOL to employ apprentices at subminimum wages. This information collection is currently approved for use through April 30, 2009.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks the approval for the extension of this currently approved information collection in order to carry out its responsibility under the special minimum wage program.

Type of Review: Extension.

AGENCY: Employment Standards Administration.

Title: Employment of Apprentices, Messengers, and Learners (Including Student-Learners and Student-Workers).

OMB Number: 1215-0192.

Agency Number: WH-205 and WH-209.

Affected Public: Business or other for-profit; Not-for-profit institutions.

Total Respondents: 700.

Total Annual Responses: 700.

Type of Response: Recordkeeping: Reporting.

Estimated Time per Response: 30 minutes.

Estimated Total Burden Hours: 350.

Frequency: Annually.

Total Burden Cost (capital/startup): $0.

Total Burden Cost (operating/maintenance): $315.00. Comments submitted in response to this notice will be summarized and/or included in the request for Office of Management and Budget approval of the information collection request; they will also become a matter of public record.

Dated: October 2, 2008.
Hazel M. Bell,
Acting Chief, Branch of Management Review and Internal Control, Division of Financial Management, Office of Management, Administration and Planning, Employment Standards Administration.

[FR Doc. E8-23639 Filed 10-6-08; 8:45 am]

BILLING CODE 4510-27-P